DEPARTMENT OF DEFENSE

Department of the Army; Corps of Engineers

Intent To Prepare a Draft Environmental Impact Statement for the Wilmington Harbor—96 Act, Dredged Material Management Plan, New Hanover and Brunswick Counties, NC

AGENCY: Department of the Army, U.S. Army Corps of Engineers, DoD.

ACTION: Notice of intent.

SUMMARY: The Wilmington District, U.S. Army Corps of Engineers (USACE) is conducting a study to evaluate the long-term (20-year) dredged material placement needs and opportunities for Wilmington Harbor. The study area encompasses Wilmington Harbor and the Ocean Bar approach channels, which extend from the mouth of the Cape Fear River in Brunswick County, NC to a point just north of the Hilton Railroad Bridge in New Hanover County, near Wilmington, NC. The study will include the preparation of a Dredged Material Management Plan (DMMP) and Draft Environmental Impact Statement (DEIS) and will identify, evaluate, screen, prioritize, and ultimately optimize placement alternatives resulting in the recommendation of a plan for the placement of dredged materials for at least the next 20 years.

FOR FURTHER INFORMATION CONTACT: Questions regarding the DMMP and DEIS should be directed to: Ms. Jenny Owens; Environmental Resources Section; U.S. Army Engineer District, Wilmington; Post Office Box 1890; Wilmington, NC 28402-1890; telephone: (910) 251-4757.

SUPPLEMENTARY INFORMATION: The USACE, Engineering Regulation (ER) 1105-2-100 mandates that the Corps Districts develop DMMP plans for all Federal navigation projects where there is an indication of insufficient capacity to accommodate maintenance dredging for the next 20 years. The ER further states that the Districts should consider options that provide opportunities for beneficial uses of dredged material. The DMMP process began with a Preliminary Assessment (PA) that was completed in February 1997. The PA identified dredged material placement shortfalls for Wilmington Harbor and recommended the development of a DMMP.

Pursuant to the National Environmental Policy Act of 1969, as amended, options for dredged material management will be based on an evaluation of the probable impact of the proposed activity on the public interest. The decision will reflect the national concern for the protection and utilization of important resources. The benefit, which may reasonably be expected to accrue from the proposal, will be balanced against its reasonably foreseeable detriments. All factors that may be relevant to the proposal will be considered, including wetlands; fish and wildlife resources; cultural resources; land use; water and air quality; hazardous, toxic, and radioactive substances; threatened and endangered species; regional geology; aesthetics; environmental justice; and the general needs and welfare of the public.

The alternatives currently being considered for the DMMP include, but are not limited to: offshore disposal in the EPA designated Ocean Dredged Material Disposal Site (ODMDS), beach disposal, upland disposal at Eagle Island, dike restoration and wetland creation at existing islands in the Harbor and establishment of sand recycling islands. Additional beneficial uses will also be investigated for the DMMP. The DEIS will address measures, alternatives and impacts to the selected or preferred alternative(s).

All private parties and Federal, State, and local agencies having an interest in the study are hereby notified of the intent to prepare a DEIS and are invited to comment at this time. A scoping meeting was held on December 8, 2005 and all comments received as a result of the scoping meeting and this notice of intent will be considered in the preparation of the DMMP and DEIS.

The lead agency for this project is the U.S. Army Engineer District, Wilmington. Cooperating agency status has not been assigned to, nor requested by, any other agency.

The DEIS is being prepared in accordance with the requirements of the National Environmental Policy Act of 1969, as amended, and will address the relationship of the proposed action to all other applicable Federal and State Laws and Executive Orders.

The DMMP and DEIS is currently scheduled to be available in October 2007.

Dated: December 6, 2006.
John E. Pulliam, Jr.,
Colonel, EN, Commanding.

[FR Doc. 06-9853 Filed 12-22-06; 8:45 am]

BILLING CODE 3710-CE-M